DEPARTMENT OF ENERGY

Agency Information Collection Extension

AGENCY: Department of Energy.

ACTION: Notice and request for comments.

SUMMARY: The Department of Energy (DOE), pursuant to the Paperwork Reduction Act of 1995, intends to extend for three years, an information collection package with the Office of Management and Budget (OMB) concerning the mandatory Certification of Compliance whereby a manufacturer or private labeler reports on and certifies its compliance energy efficiency standards for certain 1 through 200 horsepower electric motors under Title 10 Code of Federal Regulations Part 431—Energy Efficiency Program for Certain Commercial and Industrial Equipment: Appendix A to Subpart G of Part 431: Certification of Compliance with Energy Efficiency Standards for Electric Motors. Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before June 14, 2004. If you anticipate difficulty in submitting comments within that period, contact the person listed below as soon as possible.

ADDRESSES: Written comments may be sent to Mr. James Raba, U.S. Department of Energy, Building Technologies Program, Mailstop EE-2J, 1000 Independence Avenue, SW., Washington, DC 20585-0121 or by fax at (202) 586-4617 or by e-mail at jim.raba@ee.doe.gov and to Susan L. Frey, Director, Records Management Division IM-11/Germantown Bldg., Office of the Chief Information Officer, U.S. Department of Energy, 1000 Independence Ave, SW., Washington, DC 10585-1290, or by fax at 301-903-9061 or by e-mail at susan.frey@hq.doe.gov.

FOR FURTHER INFORMATION CONTACT: Requests for additional information or copies of the information collection instrument and instructions should be directed to Ms. Brenda Edwards-Jones, U.S. Department of Energy, Building Technologies Program, Mailstop EE-2J, 1000 Independence Avenue, SW., Washington, DC, 20585-0121. Telephone: (202) 586-2945.

SUPPLEMENTARY INFORMATION: This package contains: (1) OMB No.: 1910-5104; (2) Package Title: 10 CFR Part 431—Energy Efficiency Program for Certain Commercial and Industrial Equipment: Test Procedures, Labeling, and Certification Requirements for Electric Motors; (3) Type of Review: Renewal; (4) Purpose: The Compliance Certification set forth in appendix A to subpart G of 10 CFR part 431 provides a format for a manufacturer or private labeler to certify compliance with the energy efficiency standards prescribed at section 342(b)(1) of EPCA, 42 U.S.C. 6313(b)(1), through an independent testing or certification program nationally recognized in the United States (EPCA 345(c), 42 U.S.C. 6316(c)). Compliance Certification information is used by the Department of Energy and United States Customs Service officials, and facilitates voluntary compliance with and enforcement of the energy efficiency standards established for electric motors under EPCA sections 342(b)(1), 42 U.S.C. 6313(b)(1); (5) Respondents: Approximately 56 manufacturers or private labelers of certain through 200 horsepower electric motors; (6) Estimated Number of Burden Hours: 16800 total annual hours requested (approximately 300 hours per manufacturer or private labeler).

Statutory Authority: Part C of Title III of the Energy Policy and Conservation Act, Pub. L. 94-163, as amended, (EPCA) and prescribed at sections 342(b) (1) of EPCA, 42 U.S.C. 6313(b)(1), and (EPCA 345(c), 42 U.S.C. 6316(c)).

Issued in Washington, DC, on April 7, 2004.
Susan L. Frey,
Director, Records Management Division, Office of the Chief Information Officer.

[FR Doc. 04-8441 Filed 4-13-04; 8:45 am]

BILLING CODE 6450-01-P